DEPARTMENT OF COMMERCE

Foreign-Trade Zones Board

[B-33-2012]

Foreign-Trade Zone 220—Sioux Falls, SD; Notification of Proposed Production Activity, Rosenbauer America, LLC/Rosenbauer South Dakota, LLC, (Emergency Vehicles/Firefighting Equipment), Lyons, SD

The Sioux Falls Development Foundation, grantee of FTZ 220, submitted a notification of proposed production activity on behalf of Rosenbauer America, LLC/Rosenbauer South Dakota, LLC (Rosenbauer), located in Lyons, South Dakota. A separate application which is requesting usage-driven designation for the Company's facility (proposed Site 8) was submitted and will be processed under Section 400.31 of the Board's regulations. The facility is used for the production of emergency vehicles and firefighting equipment (pumps, tankers, rescue, aerials and specialty emergency vehicles).

Production under FTZ procedures could exempt Rosenbauer from customs duty payments on the foreign status components used in export production. On its domestic sales, Rosenbauer would be able to choose the duty rates during customs entry procedures that apply to emergency vehicles and firefighting equipment (duty rate free) for the foreign status inputs noted below. Customs duties also could possibly be deferred or reduced on foreign status production equipment.

Components and materials sourced from abroad include: Actuator assemblies, foam compounds, extension hoses, docking gasket profiles, axial face seals, holding discs, non-return valves, anti-kink hoses, high-pressure rubber hoses, alloy suction hoses, V-belts, O-rings, shaft-seal rings, leak-sealing lances, rope ladders, manual hose-reels, wall calendars, catalogs, rescue ropes, stuffing-box packets, gloves, elastic lighting lines, fire boots, helmets, gaskets, composite gas containers, chain sets, screws, support bearings, washers, swivel mount flanges, hose lines, strainers and clamps, hose shafts with crimp connectors, sealing flanges, closer flanges, telescoping aluminum poles, folding multi-use knives, rotary pumps, centrifugal pumps, foam transfer pumps, pump parts, fire extinguishers, spray guns, other sprayers, hand-held pneumatic tools and parts, powered hose reels, safety and relief valves, taps and cocks, hand-operated spray valves, valve parts, transmission shafts, transfer boxes, torsion dampers, gasket kits, priming pump drives, DC motors, static converters, rechargeable flashlights, flashlight parts, electrical foam proportioning system and parts, tank suspension assemblies, swing-out shelf/step assemblies, pressure governors, voltage regulators and lighting masts and assemblies (duty rate ranges from free to 10.4%).

Public comment is invited from interested parties. Submissions shall be addressed to the Board's Executive Secretary at the address below. The closing period for their receipt is June 19, 2012.

A copy of the notification will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Christopher Kemp at Christopher.Kemp@trade.gov or (202) 482-0862.

Dated: May 3, 2012.
Andrew McGilvray,
Executive Secretary.

[FR Doc. 2012-11224 Filed 5-9-12; 8:45 am]

BILLING CODE P